DEPARTMENT OF LABOR

Bureau of Labor Statistics

Data Users Advisory Committee; Notice of Meeting and Agenda

The first meeting of the Data Users Advisory Committee will be held Thursday, April 23, 2009. The meeting will be held in the Postal Square Building, 2 Massachusetts Avenue, NE., Washington, DC.

The Data Users Advisory Committee is a technical committee composed of data users from various sectors of the U.S. economy, including labor, business, research, academic and government communities. Committee members are called upon to provide advice on technical matters related to the collection, tabulation, and analysis of the Bureau's statistics, on its published reports, and on the broader aspects of its overall mission and function.

The meeting will be held in Meeting Room 1 of the Postal Square Building Conference Center. The schedule and agenda for the meeting are as follows:

8:30 Registration

9:00 Opening Remarks and introductions

10:15 Discussion of future priorities

11:15 BLS Web site redesign

1:15 BLS product initiatives

2:45 Debunking myths about BLS data series

4:45 Conclusion

The meeting is open to the public. Any questions concerning the meeting should be directed to Tracy A. Jack, Data Users Advisory Committee, on 202-691-5869. Individuals with disabilities, who need special accommodations, should contact Ms. Jack at least two days prior to the meeting date.

Signed at Washington, DC, the 25th day of March 2009.
Philip L. Rones,
Deputy Commissioner, Bureau of Labor Statistics.

[FR Doc. E9-6998 Filed 3-27-09; 8:45 am]

BILLING CODE 4510-24-P